NATIONAL AERONAUTICS AND SPACE ADMINISTRATION

[Notice: 14-124]

NASA Advisory Council; Meeting Postponement

AGENCY: National Aeronautics and Space Administration.

ACTION: Notice of postponement of meeting.

SUMMARY: In accordance with the Federal Advisory Committee Act, Public Law 92-463, as amended, NASA announces a postponement of the previously announced meeting of the NASA Advisory Council (NAC). The meeting had been scheduled to be held on December 8 and 9, 2014. The meeting is being postponed by NASA due to exceptional circumstances and schedule conflicts of the NASA top leadership in connection with post-launch programmatic requirements of the Orion Exploration Flight Test-1 (EFT-1) on December 4, 2014, at NASA Kennedy Space Center in Florida.

FOR FURTHER INFORMATION CONTACT: Ms. Marla King, NAC Administrative Officer, NASA Headquarters, Washington, DC 20546, (202) 358-1148, or marla.k.king@nasa.gov.

SUPPLEMENTARY INFORMATION: The meeting was originally announced as NASA Notice 14-118 in the Federal Register on November 18, 2014, at 79 FR 68727. The meeting had been scheduled to be held on Monday, December 8, 2014, 1 p.m.-5 p.m.; and Tuesday, December 9, 2014, 9 a.m.-5 p.m., Local Time, at NASA Stennis Space Center, MS 39529.

Patricia D. Rausch,
Advisory Committee Management Officer, National Aeronautics and Space Administration.

[FR Doc. 2014-28060 Filed 11-25-14; 8:45 am]

BILLING CODE 7510-13-P